FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Allround Forwarding Holding, Inc. (NVO & OFF), 134 West 26th Street, New York, NY 10001, Officers: Hatto H. Dachgruber, President/Director, (Qualifying Individual), John Wellock, Vice President, Application Type: License Transfer.

Anker International, LLC (NVO & OFF), 738 Robinson Farms Drive, Marietta, GA 30068, Officer: Ford M. Orton, Sole Manager, (Qualifying Individual), Application Type: New NVO & OFF License.

Asian Link Logistics, LLC dba Best Global (NVO & OFF), 829 Graves Street, Kernersville, NC 27285, Officers: David W. Reich, Jr., Member Manager, (Qualifying Individual), Gary Surber, CFO, Application Type: Trade Name Change.

Bonaberi Shipping & Moving, Inc. (NVO & OFF), 1905 Virginia Avenue, Hyattsville, MD 20785, Officers: Tse E. Bangarie, President/Secretary/Treasurer, (Qualifying Individual), Charles A. Nguti, Board Member, Application Type: New NVO & OFF License.

Dunblare Import—Export Inc. (OFF), 13100 N.W. 113th Avenue Road, Medley, FL 33178, Officers: Mark D. Minors, Vice President/Treasurer, (Qualifying Individual), David Minors, President/Secretary, Application Type: New NVO License.

Hansa Meyer Global Transport USA, LLC dba Hansa Shipping LLC, (OFF), 712 Main Street, Suite 1820, Houston, TX 77002, Officers: Fritz Keller, Vice President (Marketing), (Qualifying Individual), Frank Scheibner, CEO/Pres./Sec./Treasurer, Application Type: Trade Name Change.

Nashrah Shipping & Logistics (Private) Limited dba, Nashrah Shipping and Logistics (NVO), Mezzanine Floor, Trade Ave., Tower 1, Hasrat Mohani Road, M1, Karachi, Pakistan, Officers: Syed Ali A. Zaidi, Director, (Qualifying Individual), Mohammed Aqil Maniar, CEO, Application Type: New NVO License.

Ocean Shipping Corporation (OFF), 1981 Jamaica Drive, Navarre, FL 32566, Officers: Alberto E. Puentes, President, (Qualifying Individual), Denise M. Puentes, Vice President/Secretary, Application Type: New OFF License.

Pacific Global Logistics, Inc. (NVO & OFF), 1500 Pumphrey Avenue, #105-106, Auburn, AL 36832, Officers: Joseph K. Ji, COO, (Qualifying Individual), Jong S. Yoon, CFO, Application Type: New NVO & OFF License.

Prolink, Inc. (NVO & OFF), 10341 SW 141 Street, Miami, FL 33176, Officer: Maria D. Ulloa, Pres./Sec./Treas./Director, (Qualifying Individual), Application Type: New NVO & OFF License.

Red Logistics Corp. (OFF), 2789 NW. 82nd Avenue, Doral, FL 33122, Officers: Gabriel A. Znidarcic, President, (Qualifying Individual), Claudio Baachi, Secretary/Treasurer, Application Type: New OFF License.

Rich Pacific USA, Inc. (NVO & OFF), 18605 E. Gale Avenue, #288, City of Industry, CA 91748, Officers: David Liu, President/CFO, (Qualifying Individual), Jenny Zhao, Secretary, Application Type: New NVO & OFF License.

Siati Express, Inc. (NVO & OFF), 6117 NW. 72nd Avenue, Miami, FL 33166, Officers: Jose F. Banderas, Director, (Qualifying Individual), Zinnia Y. Mora, Director, Application Type: New NVO & OFF License.

Solomon Emeke dba Desaiah Limited (NVO & OFF), 3696 Park Avenue, Ellicott City, MD 21043, Officer: Solomon Emeke, Sole Proprietor, (Qualifying Individual), Application Type: Add NVO Service.

TCRE Global, Inc. dba Joinus Worldwide Freight (NVO), 1201 S. Beach Blvd., #202, La Habra, CA 90631, Officers: Christina Han, President/CFO/Secretary, (Qualifying Individual), Terry Han, Vice President, Application Type: New NVO License.

Team Ocean Services, Inc. (NVO & OFF), 629 West Broadway Street, Winnsboro, TX 75494, Officers: Robert P. Imbriani, Vice President, (Qualifying Individual), Joe E. Brunson, President, Application Type: QI Change.

Time Winner Int'l Inc. dba Time Winner Int'l Express, (NVO & OFF), 20947 Currier Road, Unit P, Walnut, CA 91789, Officers: Janet V. Lau, Secretary, (Qualifying Individual), Ka Y. Shum, CEO, Application Type: New NVO & OFF License.

U.S. Group Consolidator, Inc. (NVO & OFF), 618 Glasgow Avenue, Suite #355, Inglewood, CA 90301, Officers: Andy C. Wu, Vice President, (Qualifying Individual), Barry Chu, President, Application Type: QI Change.

Uniglobal Logistics LLC (NVO), 39 Old Ridgebury Road, #N-1, Danbury, CT 06810, Officers: Robert H. Shellman, Manager/President, (Qualifying Individual), Cosmo J. Alberico, Treasurer, Application Type: New NVO License.

Dated: May 13, 2011.
Rachel E. Dickon,
Assistant Secretary.

[FR Doc. 2011-12225 Filed 5-17-11; 8:45 am]

BILLING CODE 6730-01-P